DEPARTMENT OF THE TREASURY

Office of Foreign Assets Control

Unblocking of Specially Designated National and Blocked Person Pursuant To Executive Order 13348

AGENCY: Office of Foreign Assets Control, Treasury.

ACTION: Notice.

SUMMARY: The Department of the Treasury's Office of Foreign Assets Control (“OFAC”) is publishing the name of one individual whose property and interests in property have been unblocked pursuant to Executive Order 13348 of July 22, 2004, “Blocking Property of Certain Persons and Prohibiting the Importation of Certain Goods from Liberia.”

DATES: The unblocking and removal from the list of Specially Designated Nationals and Blocked Persons by the Secretary of the Treasury of the individual identified in this notice whose property and interests in property were blocked pursuant to Executive Order 13348 of July 22, 2004, is effective December 14, 2010.

FOR FURTHER INFORMATION CONTACT: Assistant Director, Compliance Outreach & Implementation, Office of Foreign Assets Control, Department of the Treasury, 1500 Pennsylvania Avenue, NW (Treasury Annex), Washington, DC 20220, Tel.: 202/622-2490.

SUPPLEMENTARY INFORMATION:

Electronic and Facsimile Availability

Information about this document and additional information concerning OFAC are available from OFAC's Web site (http://www.treas.gov/ofac) or via facsimile through a 24-hour fax-on-demand service, Tel.: 202/622-0077.

Background

On July 22, 2004, President Bush issued Executive Order 13348 (“the order” or “EO 13348”), finding that the actions and policies of former Liberian President Charles Taylor and other persons, in particular their unlawful depletion of Liberian resources and their removal from Liberia, and secreting of Liberian funds and property, undermined Liberia's transition to democracy, the orderly development of Liberia's political, administrative, and economic institutions and resources, and fueled and exacerbated other conflicts throughout West Africa. The President found that the actions, policies, and circumstances described above constituted an unusual and extraordinary threat to the foreign policy of the United States and declared a national emergency to deal with that threat.

The order included 28 persons in the Annex, which resulted in the blocking of all property or interests in property of these persons that was or thereafter came within the United States or the possession or control of U.S. persons. The order authorizes the Secretary of the Treasury, in consultation with the Secretary of State, to designate additional persons or entities determined to meet certain criteria set forth in EO 13348.

The order also authorizes the Secretary of the Treasury, in consultation with the Secretary of State, to determine that circumstances no longer warrant the inclusion of a person in the Annex to EO 13348 and to unblock any property or interests in property that had been blocked as a result of the person's inclusion in the Annex.

On December 14, 2010, the Director of OFAC, in consultation with the State Department, determined that circumstances no longer warrant the inclusion of the individual listed below in the Annex to EO 13448 and that the property and interests in property of the individual listed below are therefore no longer blocked pursuant to section 1(a) of EO 13448, and accordingly removed him from the list of Specially Designated Nationals and Blocked Persons.

CISSE, M. Moussa (a.k.a. KAMARA, Mamadee); DOB 24 Dec 1946; alt DOB 26 Jan 1944; Passport D-001548-99 (Liberia); alt. Passport 0058070 (Liberia); Former Chief of Presidential Protocol; Chairman, Mohammed Group of Companies; Diplomatic (individual) [LIBERIA]

Dated: December 14, 2010.
Adam J. Szubin,
Director, Office of Foreign Assets Control.

[FR Doc. 2010-31810 Filed 12-17-10; 8:45 am]

BILLING CODE P